DEPARTMENT OF LABOR

Office of the Secretary

Combating Child Labor Through Education in Timebound Programs (El Salvador, Nepal, Tanzania)

AGENCY: Bureau of International Labor Affairs, Department of Labor.

ACTION: Notice of Availability of Funds and Solicitation for Cooperative Agreement Applications (SGA 01-06).

This notice contains all of the necessary information and forms needed to apply for cooperative agreement funding.

SUMMARY: The U.S. Department of Labor, Bureau of International Labor Affairs, will award funds to an organization or organizations to develop and implement education programs as a means to combat the worst forms of child labor as defined in International Labor Organization (ILO) Convention No. 182. The education programs will supplement and complement “Timebound Programs” being implemented by the ILO's International Program on the Elimination of Child Labor in El Salvador, Nepal and Tanzania. ILAB is seeking applications from qualified organizations for implementation of the basic education component of the Timebound Program initiatives, which includes the successful integration of children removed from child labor into formal education, and support of improvements in the quality of transitional and non-formal education that precedes integration into the formal school system. Applicants may submit proposals for implementation in one or more of the three countries.

DATE: The closing date for receipt of applications is January 18, 2002. Applications must be received by 4:45 p.m. (Eastern Time) at the address below. No exceptions to the mailing and hand-delivery conditions set forth in this notice will be granted. Applications that do not meet the conditions set forth in this notice will not be honored. Telefacsimile (FAX) applications will not be honored.

ADDRESS: Application forms will not be mailed. They are published in this Federal Register Notice, and in the Federal Register which may be obtained from your nearest U.S. Government office or public library or online at http://www.nara.gov/fedreg/nfpubs.html.

Applications must be delivered to: U.S. Department of Labor, Procurement Services Center, 200 Constitution Avenue, NW, Room N-5416, Attention: Lisa Harvey, Reference: SGA 01-06, Washington, DC 20210.

FOR FURTHER INFORMATION CONTACT: Lisa Harvey. E-mail address: harvey-lisa@dol.gov. All inquiries should reference SGA 01-06.

SUPPLEMENTARY INFORMATION: The Bureau of International Labor Affairs (ILAB), U.S. Department of Labor (USDOL, Department, or Grantor), announces the availability of funds to be granted by cooperative agreement to one or more qualifying organizations for the purpose of preventing and combating the worst forms of child labor through basic education in El Salvador, Nepal and Tanzania. The cooperative agreement(s) is(are) to be actively managed by ILAB's International Child Labor Program (ICLP), to assure achievement of the stated goals. Applicants are encouraged to be creative in proposing cost-effective interventions that will have a demonstrable impact in using education as a means of reducing the worst forms of child labor in these countries.

I. Background and Program Scope

A. USDOL Support of the Global Elimination of Child Labor

The International Labor Organization estimates that there are 250 million working children between the ages of five and 14 in developing countries, about half of whom work full-time. Full-time child workers are generally unable to attend school, and from an early age part-time child laborers must balance economic survival with schooling, often to the detriment of their education.

The existence of child labor has many implications for a country. Education is a key investment that has been linked to the acceleration of a nation's productivity and socioeconomic development. Poorly educated workers tend to earn less, live in poverty, and may need to send their own children to work at a young age. It is important to undertake education initiatives for child laborers and their at-risk siblings because their lack of schooling hinders the development of a modern workforce, overall labor market reform, poverty reduction and social progress.

Since 1995 as mandated by the U.S. Congress, USDOL has supported a worldwide technical assistance program implemented by the International Labor Organization's International Program on the Elimination of Child Labor (ILO/IPEC). USDOL contributions to date to ILO/IPEC have amounted to some $112 million, making the United States the program's largest donor and a leader in global efforts to combat child labor. In USDOL's FY 2001 appropriations, in addition to $45 million in funds earmarked for ILO/IPEC, the Department received $37 million for an Education Initiative that will fund programs that increase access to quality, basic education in areas with a high incidence of child labor. The cooperative agreement(s) awarded under this solicitation will be funded by this new initiative.

USDOL's Education Initiative nurtures the development, health, safety and enhanced future employability of children around the world by increasing access to basic education for children removed from child labor or at risk of entering it. Child labor elimination will depend in part on improving access to, quality of, and relevance of education. Without improving educational quality and relevance, children withdrawn from child labor may not have viable alternatives and could resort to other forms of hazardous work.

The Education Initiative has the following four goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

B. The Timebound Strategy to Eliminate Child Labor

Programs funded by USDOL have evolved from targeted action programs in specific sectors into a more comprehensive approach. In June 2001, at the International Labor Conference in Geneva, new programs were launched in three countries (El Salvador, Nepal, and Tanzania) to effectively abolish the worst forms of child labor in a five to ten-year time frame. These programs are called “Timebound Programs” and are a technical assistance modality designed to assist countries to eliminate the worst forms of child labor in a defined period of time. Timebound programs provide assistance to countries to support implementation of ILO Convention 182 on the Worst Forms of Child Labor to which the United States is a signatory. Convention 182 lists four categories of the worst forms of child labor, and calls for their immediate elimination:

• All forms of slavery or practices similar to slavery, such as the sale and trafficking of children; debt bondage and serfdom and forced or compulsory labor; including force or compulsory recruitment of children for use in armed conflict;

• The use, procurement or offering of a child for prostitution, production of pornography or pornographic performances;

• The use, procurement or offering of a child for illicit activities in particular for the production and trafficking of drugs as defined in the relevant international treaties;

• Work which by its nature or by the circumstances by which it is carried out, is likely to harm the health, safety, and morals of children.

In determining the types of work likely to harm the health, safety and morals of children, Convention 182 considers the following: work which exposes a child to physical, psychological or sexual abuse; work underground, underwater, at dangerous heights or in confined workplaces; work with dangerous machinery, equipment and tools or handling or transporting heavy loads; work in an unhealthy environment including exposure to hazardous substances, agents or processes, or to temperatures, noise levels or vibrations damaging to the health; work for long hours or night work where the child is unreasonably confined to the premises.

The Timebound Program is designed to be a country-owned initiative. Participation in a Timebound Program implies commitment by a country to mobilize and allocate national human and financial resources to combat the problem. USDOL-supported programs will assist governments in this process by identifying and supporting projects, measures, interventions, institutional mechanisms and partnerships required to eliminate the worst forms of child labor.

Success in the selected countries—El Salvador, Nepal and Tanzania—the first three countries to implement the Timebound Program, will provide the impetus and models for more countries to try this innovative approach, thereby increasing the impact in the elimination of child labor around the world.

C. The Timebound Program in the Target Countries

Substantial preparatory work has been conducted before launching the Timebound Programs in the target countries. This work includes rapid assessments, research and national stakeholder consultations. Of particular interest are the final project documents which, along with other background documents, are available for examination by applicants to this solicitation at: www.dol.gov/dol/ilab/public/programs/iclp/welcome.html, or in hard copy upon request (see Appendix F). The country information presented in Appendices C-E of this solicitation summarizes much of the pertinent information contained in documents produced in preparation for the implementation of the Timebound Program in the three countries.

II. Authority

ILAB is authorized to award and administer this program by the consolidated Appropriations Act, 2001, Pub. L. no. 106-554, 114 stat. 2763A-10 (2000).

III. Application Process

A. Eligible Applicants

Any organization capable of successfully developing and implementing the education component of Timebound programs is eligible for this cooperative agreement. Partnerships of more than one organization are also eligible. Applicants may apply for either one or more of the countries. The capability of an applicant or applicants to perform necessary aspects of this solicitation will be determined under Section V.B. Rating Criteria.

Please note that eligible cooperative agreement applicants must not be classified under the Internal Revenue Code as a 501(c)(4) entity. See 26 U.S.C. 506(c)(4). According to section 18 of the Lobbying Disclosure Act of 1995, an organization, as described in section 501(c)(4) of the Internal Revenue Code of 1986, that engages in lobbying activities will not be eligible for the receipt of federal funds constituting an award, grant, or loan.

B. Submission of Applications

One (1) ink-signed original, complete application plus two (2) copies of the Proposal, must be submitted to the U.S. Department of Labor, Procurement Services Center, 200 Constitution Avenue, NW, Room N-5416, Washington, DC 20210, not later than 4:45 p.m. ET, January 18, 2002.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical proposal that demonstrates capabilities in accordance with the Statement of Work and the selection criteria.

To be considered responsive to this solicitation, the application must consist of the above-mentioned separate sections not to exceed 40 single-sided (8½″ × 11″), double-spaced, 10 to 12 pitch typed pages per country for which a response is submitted. Any proposals that do not conform to these standards may be deemed non-responsive to this solicitation and may not be evaluated. Standard forms and attachments are not included in the page limit. Each proposal must include a table of contents and an abstract summarizing the proposal in not more than two (2) pages. These pages are also not included in the page limits.

Upon completion of negotiations, the individual signing the SF 424 on behalf of the applicant must be authorized to bind the applicant.

C. Acceptable Methods of Submission

All applicants are advised that U.S. mail delivery in the Washington, DC area has been erratic due to the recent concerns involving anthrax contamination. All applicants must take this into consideration when preparing to meet the application deadline. Applications sent by E-mail, telegram, or facsimile (FAX) will not be accepted.

D. Funding Levels

Up to US $12 million is available for this program, to fund activities in three (3) countries: El Salvador, Nepal and Tanzania, with fairly equal distribution of funds among the countries. USDOL reserves the option of awarding more than one cooperative agreement. One or more organizations may apply to implement in one or more of the countries, but separate proposals of up to 40 pages must be submitted for each country. (See Section B above, Submission of Applications).

E. Program Duration

The duration of the program(s) funded by this SGA is four (4) years. The start date of program activities will be negotiated upon awarding of grant.

IV. Requirements

A. Statement of Work

In developing their proposals, potential grant recipients should take into account the situation of the countries of implementation as outlined in Appendices C, D, and E and background documents on the Timebound Program available on-line at: www.dol.gov/dol/ilab/public/programs/iclp/welcome.html, or in hard copy upon request (Appendix F). The applicants will propose approaches that will meet the education needs of the identified target beneficiaries in each country and support the goals of USDOL's Education Initiative: (1) Raise awareness of the importance of education for all children and mobilize a wide array of actors to improve and expand education infrastructures; (2) Strengthen formal and transitional education systems that encourage working children and those at risk of working to attend school; (3) Strengthen national institutions and policies on education and child labor, and (4) Ensure the long-term sustainability of these efforts.

The Grantee(s) will be required to work cooperatively with stakeholders in the countries, including Ministries/Departments of Education and Labor, trade unions, the private sector, non-governmental organizations, national steering/advisory committees on child labor and education, and working children and their families. The Grantee(s) will need to coordinate their activities with those of the broad-based Timebound Programs being undertaken by the ILO/IPEC with USDOL funding, and will be required to work in close collaboration and consultation with ILO/IPEC to guarantee a seamless integration between the education component funded by the Education Initiative, and the other components of the Timebound Programs funded separately. Close collaboration includes, but is not limited to, working with the target populations and geographical areas as identified in Timebound project documents; and coordinating of advocacy and awareness raising campaigns. Project key personnel will work closely with the ILO/IPEC's Chief Technical Advisor and Senior National Officer for the Timebound Program in each country.

These general guidelines must be adapted and targeted to the needs and Timebound approach being developed in each of the three countries. The requirements form the core by which the Grantee will develop an implementation work plan after award. In developing responses, potential Grantees are referred to Timebound program and project documents and supporting documentation on-line. Below is a listing of country-specific requirements to guide potential grantees in the development of responses to this solicitation.

El Salvador

The applicant will propose creative and innovative approaches to improve access, quality and relevance of education for children of the project's four target groups: children working in garbage dumps; children working in sugar cane; children working in fishing; and child victims of commercial sexual exploitation. The approach suggested will include broad actions that promote an enabling environment at the national level, and specific, pilot interventions at the local level in 18 targeted municipalities (listed in Appendix C) to increase enrollment and attendance in educational settings, reduce dropout, increase promotion to next grade, and increase mainstreaming of children into formal schooling or to vocational education leading to improved employment. Applicants must propose how to address issues related to the following areas of implementation:

At the National Level

The applicant will propose:

1. The approach to be used to build a partnership with the Ministry of Education (MINED) to collaboratively develop strategies to provide targeted working children with educational alternatives.

2. Methods to strengthen MINED's capacity to improve the database on the education of working children or those removed from child labor, and particularly to collect data on their net enrollment, attendance, educational achievement, drop-out rates, and to cross-tabulate economic activity of children and school attendance and performance. Improved capacity would include the ability to assess existing methodological tools used in El Salvador for collecting, processing, analyzing, mapping and disseminating information on the education of the child labor population. The result of strengthened capacity would be the ability of MINED and other stakeholders to better monitor performance and design appropriate education policies and programs for the target population.

3. Ways to raise national awareness on the education of child laborers and the audiences for the awareness raising.

4. Ways to mobilize resources for the education of child laborers and to improve education infrastructures in areas of high child labor.

5. Possible objectives and content of modules on child labor to be developed for use in MINED's countrywide teacher training in El Salvador.

6. Ways to promote national policy dialogue in El Salvador on how to lower educational barriers for working children or children removed from child labor, particularly its worst forms, and how to use education policies to complement and support existing child labor policies. In proposing approaches, the applicant must consider that the reform process must explicitly address the relationship between child labor and school desertion and absenteeism. The applicant must also keep in mind that education programs should address the needs of working children and their families, and the poverty and inability of some families to sustain school fees and attendance.

7. Methods for nationwide sharing of the lessons learned in pilot interventions, and for eventually scaling up and replicating them in other parts of El Salvador after the end of the project.

At the Municipal Level

The applicant will work in close collaboration with MINED to develop pilot interventions to reduce barriers within the education system that prevent target children from gaining access to quality, relevant education, and that address the particular needs of working children and their families. MINED will provide approximately 25 new teachers to work in targeted schools, and four MINED educational advisors, including curriculum design experts, who will work part-time on the project. Training for teachers on child labor will be provided by MINED.

The applicant will suggest ways to use and/or strengthen existing innovative MINED programs cited in Appendix C so that they can better serve the needs of the target population. The suggested approach is particularly important because MINED has agreed to absorb into their future programs and budgets the joint initiatives developed by the project so that it can later replicate and expand the successful models and experiences. Specifically at the municipal level in target areas, the applicant will propose methods to:

1. Raise awareness of parents, teachers, educators, children, and community leaders to promote enrollment and retention of target children into educational settings, and reduce late enrollment of at-risk siblings.

2. Increase community involvement and participation of different actors including local authorities, teachers' associations, parents, and others to improve the physical and material infrastructure in schools; mobilize resources to rebuild and repair classrooms and schools destroyed by earthquakes, and provide additionally needed materials and school supplies.

3. Support improvements in quality in transitional and non-formal education programs so as to ensure a greater chance of eventual integration by these children into the formal school system.

4. Work with MINED to upgrade the knowledge and skills of teachers and administrators to adapt schools and classrooms to receive and nurture the success of all students, including former child laborers and older children in the target areas where schools will be receiving a large influx of former child workers. Suggest courses and activities to improve pedagogy, participatory teaching methods, learning assessment, planning, and monitoring of results.

5. Mainstream large numbers of targeted children into the formal school system and provide educational support to help them succeed in that setting. This support can include after-school programs and centers in selected districts to provide counseling and guidance for target groups, recreational activities, tutoring, and life skills training.

6. Address gender issues that severely limit the participation of either boys or girls in school because of work demands, including childcare of younger siblings.

7. Improve the quality and relevance of the curriculum in education programs to make them more relevant to the needs of parents and children, and the communities where they live. In showing how quality and relevance would be improved, provide examples of how to utilize MINED's Quality Management Model that permits local communities to adapt the curriculum to their local environment. In this regard, the grantee will work with MINED curriculum design experts.

8. Identify and strengthen community organizations and networks that are critical to the success of pilot interventions including for the mobilization of resources, and for monitoring the target population's school attendance and access to improved education.

9. Address the issue of project sustainability by proposing a strategy to generate resources to cover recurrent costs of suggested education programs, either through existing budgetary mechanisms, or by generating alternative national or local community-based financing mechanisms, such as mandatory or voluntary contributions by users of services, or through philanthropy, volunteer programs, or corporate citizenship.

Nepal

The applicant will suggest creative and innovative approaches to improve access to education for children of the project's six target groups: child porters; child rag pickers; child domestic workers; child victims of trafficking; children in mines; and children working in the carpet sector. The applicant will suggest ways to use and/or strengthen existing education programs so that targeted children can benefit from them.

The approach suggested will include broad actions that promote an enabling environment at the national level, and specific interventions at the level of the 22 targeted districts (listed in Appendix D) to improve quality, increase enrollment and attendance at educational settings, reduce dropout, increase promotion to next grade, and increase mainstreaming of target children to formal schooling or to vocational education leading to improved employment. Especially important in Nepal will be to make education relevant and inclusive of those children who have been traditionally socially excluded. In implementing the approach, the Grantee will be required to develop partnerships with the Ministry of Education and Sports, with the ILO/IPEC Timebound project staff, with the Basic Primary Education Project (BPEP), and with the Asian Development Bank's future Teacher Training Program.

In their response applicants must show how they would address issues related to the following areas of implementation:

At the National Level

The applicant will propose:

1. The approach to be used to build a partnership with the Ministry of Education and Sports to collaboratively develop strategies to provide education to working children in targeted areas of Nepal, and to contribute to the implementation of His Majesty's Master Plan for the Elimination of Child Labor.

2. Methods to promote national policy dialogue in Nepal on how to make education and training responsive to the needs of the target population. In proposing approaches, the applicant must explicitly address the relationship between child labor and school desertion and absenteeism. The applicant must also keep in mind that education programs should address the needs of working children and their families, and the poverty and inability of some families to sustain school fees and attendance.

3. Methods to improve education data collection and analysis on the targeted children that will feed into education policy and planning.

4. Methods to raise national awareness and mobilize resources to improve school access, enrollment, attendance and retention for targeted children.

5. Ways that outreach and flexible schooling approaches that have been developed in Nepal for other projects might be used to meet the needs and requirements of poor rural families vulnerable to child labor.

6. Methods to develop linkages between transitional and formal education systems to allow ex-working children to successfully be mainstreamed into formal education, and to increase targeted children's access to vocational education.

7. Objectives and content of modules on child labor and other related themes to be used in teacher training that can be picked up by donor initiatives such as BPEP and the ADB Teacher Training Program.

8. Approaches to review the examination system in schools to reduce the bias against excluded groups, and to develop alternative learning assessment tools to measure the educational achievement of the targeted children.

9. Methods for nationwide sharing of lessons learned in district interventions, and for eventual scaling up and replication in other parts of Nepal after the end of the project.

At the District Level

The applicant will work closely with local authorities and educators to create a coherent model of education interventions at the district level to provide education alternatives to children rescued from the worst forms of child labor. In the process of implementation it is expected that capacity and control of local delivery mechanisms for education will be strengthened. The applicant will propose:

1. Methods to raise awareness about the education needs of targeted children among various local actors including municipal authorities, community-based organizations, teachers unions, district and village development committees (DDCs and VDCs) and others to be suggested by the applicant.

2. Approaches to mobilize local communities to increase parental participation, and raise demand for accessible, affordable, relevant and quality education, improve education infrastructure, and develop community-based school improvement activities.

3. Types of training or other activities that could be provided to officials of the district, municipality and local government to improve local planning so that it addresses the education needs of the target population.

4. Methods to strengthen the quality of transitional and non-formal education programs, so that these children have a greater chance to be successfully mainstreamed into the formal system.

5. Ways to assist local education authorities to develop effective administrative systems to enhance the capacity of schools to receive a large influx of former child laborers, and strengthen school admission and retention policies to facilitate the entry or re-entry of children removed from child labor.

6. Approaches to mainstream the large numbers of targeted children into the formal school systems and provide educational support to help them succeed in that setting. This support can include after-school programs and centers in selected districts to provide counseling and guidance for target groups, recreational activities, tutoring, and life skills training.

7. Approaches to promote the decentralization of the education budget to the district level within the framework of Nepal's Local-Self Governance Act.

8. Approaches to develop the private sponsorship of school attendance by target children, particularly child domestic workers.

9. Ways to address gender issues that severely limit the participation of either boys or girls in school because of work demands, including childcare of younger siblings.

10. Methods for community monitoring of schools that receive target children that complement and reinforce formal education monitoring systems.

Tanzania:

The applicant will suggest creative and innovative approaches to improve access to formal education for children of the project's target population: children in prostitution, domestic work, mining, and commercial agriculture. The major thrust will be to promote an enabling environment and create capacity at the district level to contribute to the Government of Tanzania's plan to reduce by 75% the number of children working in these sectors by 2005.

The applicant will suggest ways to address education system barriers and education needs for target children cited in Appendix E. The approach suggested will include actions that promote a supportive environment at the national level, and specific interventions in the 11 targeted districts (see Appendix E). District interventions should improve quality, increase enrollment and attendance, reduce dropout, increase promotion to next grade, and increase mainstreaming of target children to formal schooling or to vocational education leading to improved employment.

At the national level:

The applicant will propose:

1. Ways to raise national awareness/mobilize resources for the education of child laborers, and the audiences for the awareness raising/resource mobilization initiatives.

2. Means by which to build inter-institutional coordination capacity for education policies and programs to support Tanzania's Child Labor Elimination Policy (CLEP), including a strategy to bring in institutions working on Tanzania's Poverty Reduction Master Plan (PRSP), Basic Education Master Plan (BEMP), Education Sector Development Program (ESDP), and ILO/IPEC's Strategic Program Framework (SPF) for the elimination of the Worst Forms of Child Labor.

3. A method by which to assist the Ministry of Education in Tanzania to develop guidelines for local government authorities on how to promote access to education for disadvantaged children, including those withdrawn from child labor. The guidelines should include references on how to improve education quality and relevance, physical and material infrastructure, and ensure enrollment, attendance and retention of the target children.

4. The approach and suggested content of training for teachers and Ministry of Education Inspectors on the theme of child labor.

5. Approaches to curriculum development/improvement to enhance the relevance of course content for the target population and the communities in which they live.

6. Approaches to create accountability mechanisms within the Ministry of Education to monitor the progress in reaching target children in affected communities.

7. Methods for nationwide sharing of lessons learned in district interventions, and for eventual scaling up and replication in other parts of Tanzania after the end of the project.

At the district level:

The applicant will work within the context of decentralization initiatives of the Local Government Reform Process (LGRP) in Tanzania to advance the education of children in the targeted sectors.

The applicant will propose:

1. An approach to improve capacity to collect education data and develop a database that feeds into decentralized planning and policy implementation in support of the LGRP in Tanzania. The applicant should specify the types of data that would be collected, and how they would feed into district education plans, and which organizations would be strengthened.

2. The means to build capacity of key organizations (e.g., District Social Welfare Committees, Child Labor Committees at the village and/or ward level) to plan for and manage the education for the target children.

3. Ways to promote greater involvement of parents and community members in efforts to identify children who are not attending school, and take measures to prevent and withdraw children from work and place them in education settings.

4. Approaches to link transitional non-formal education (that will be administered by the ILO/IPEC to the target population) to formal education. These approaches would include means of preparing the formal system to give attention to need of ex-child workers, and the development of school admission, retention and other policies that could support their successful transition to formal schooling.

5. Ways to improve the quality of formal education at the local level, including through the development of enrichment programs or alternative education.

6. Ways to address gender issues in the education of the target children.

7. An approach to develop a community monitoring system for the education of the target children that would complement district level monitoring and information systems.

8. Methods to mobilize resources at district and local levels to sustain education activities for the target children.

In addition to meeting these requirements for each country, Grantee(s) also will be expected to monitor the implementation of the program, report to USDOL on a quarterly basis, and evaluate program results. The grant(s) will include funds to plan, implement and evaluate programs and activities, conduct various studies, and to establish education baselines to measure program results. The education baselines will complement those conducted by the ILO/IPEC. Grantee(s) must develop annual work plans that will be approved by USDOL. Corresponding indicators of performance will also be developed by the Grantee(s) and approved by USDOL.

B. Deliverables

Unless otherwise indicated, the Grantee(s) must submit copies of all required reports to ILAB by the specified due dates. Other documents, such as project design documents, are to be submitted by mutually agreed upon deadlines.

1. Project Designs. A project document to be established by ILAB in the logical framework format will be used, and will include a background/justification section, project strategy (objectives, outputs, activities, indicators), project implementation timetable and project budget. The project design will be drawn from the proposal written in response to this solicitation. The document will also include sections that address coordination strategies, project management and sustainability. The time for delivery of this document will be negotiated at the time of the award.

2. Technical and Financial Progress Reports. The Grantee(s) must furnish a typed technical report to ILAB on a quarterly basis by 31 March, 30 June, 30 September, and 31 December. The grantee(s) must also furnish a separate financial report to ILAB on the quarterly basis mentioned above. The format for the technical progress report will be the format developed by ILAB and must contain the following information:

a. For each project objective, an accurate account of activities carried out under that objective during the reporting period;

b. An accounting of staff and any subcontractor hours expended;

c. An accounting of travel performed under the cooperative agreement during the reporting period, including purpose of trip, persons or organizations contacted, and benefits derived;

d. A description of current problems that may impede performance, and proposed corrective action;

e. Future actions planned in support of each project objective; and

f. Aggregate amount of costs incurred during the reporting period.

3. Annual Work Plan. An annual work plan will be developed within a month of project award and approved by ILAB so as to ensure coordination with ILO/IPEC components of the Timebound project in each of the countries. Subsequent annual work plans will be delivered no later than one year after the previous one.

4. Monitoring and Evaluation Plan. A monitoring and evaluation plan for all projects will be developed, in collaboration with ILAB, including beginning and ending dates for projects, planned and actual dates for mid-term review, and final end of project evaluations. Although financed separately and with its own budget, the Grantee(s) will coordinate activities with ILO/IPEC, and its outputs and activities will support common objectives for the project as a whole. The monitoring plan will be prepared after completion of baseline surveys, including revision of indicators provided in project document, targets, and means of verification.

5. Evaluation Reports. The Grantee(s) and the Grant Officer's Technical Representative (GOTR) will determine on a case-by-case basis whether mid-term evaluations will be conducted by an internal or external evaluation team. All final evaluations will be external in nature. The Grantee must respond to any comments and recommendations resulting from the review of the mid-term report.

C. Production of Deliverables

1. Materials Prepared Under the Cooperative Agreement. The Grantee(s) must submit to ILAB all media-related and educational materials developed before they are reproduced, published, or used. ILAB considers that education materials include brochures, pamphlets, videotapes, slide-tape shows, curricula, and any other training materials used in the program. ILAB will review materials for technical accuracy. The Grantee(s) must obtain prior approval from the Grant Officer for all materials developed or purchased under this cooperative agreement. All materials produced by Grantee(s) must be provided to ILAB in a digital format for possible publication by ILAB.

2. Printing and Duplicating. The Grantee(s)/recipient(s) must comply with all duplicating and printing regulations issued by the Joint Committee on Printing under the authority of 44 U.S.C. 103, 501, and 502. The term “duplicating” as used means material produced on single unit duplicating equipment not larger than 11 by 17 inches and which have a maximum image of 10¾ × 14¼ inches using direct image plates not requiring the use of negatives. The term “printing” as used must be construed to include and apply to the processes of composition, platemaking, presswork, binding, and microform.

Under this cooperative agreement, the Grantee(s)/recipient(s) may duplicate up to a maximum of 5,000 copies of one page or 25,000 copies in the aggregate of multiple pages.

The Grantee(s)/recipient(s) shall not use funds under this cooperative agreement to provide duplicating in excess of the quantities stated above nor provide printing without the written authorization of the Joint Committee on Printing. Such authorization shall be obtained from the Grant Officer through the Departmental Printing Officer. Nothing in this clause precludes the procurement of writing, editing, preparation of manuscript copy, or preparation of related illustrative material.

3. Acknowledgment of USDOL Funding. In all circumstances the following must be displayed on printed materials: “Preparation of this item was funded by the United States Department of Labor under Cooperative Agreement No. E-9-X-X-XXXX.”

When issuing statements, press releases, requests for proposals, bid solicitations, and other documents describing projects or programs funded in whole or in part with Federal money, all Grantees receiving Federal funds, including State and local governments and recipients of Federal research grants, must clearly state:

a. The percentage of the total costs of the program or project which will be financed with Federal money;

b. The dollar amount of Federal funds for the project or program; and

c. The percentage and dollar amount of the total costs of the project or program that will be financed by non-governmental sources.

In consultation with ILAB, USDOL's role will be identified as one of the following:

a. The USDOL logo may be applied to USDOL-funded material prepared for world-wide distribution, including posters, videos, pamphlets, research documents, national survey results, impact evaluations, best practice reports, and other publications of global interest. The Grantee will consult with USDOL on whether the logo should be used on any such items prior to final draft or final preparation for distribution. In no event will the USDOL logo be placed on any item until USDOL has given the grantee written permission to use the logo, after obtaining appropriate internal USDOL approval for use of the logo on the item.

b. If ILAB determines the logo is not appropriate and does not give written permission, the following notice must appear on the document:

“This document does not necessarily reflect the views or policies of the U.S. Department of Labor, nor does mention of trade names, commercial products, or organizations imply endorsement by the U.S. Government.”

D. Administrative Requirements

1. General. Grantee organizations are subject to applicable Federal laws (including provisions of appropriations law) and the applicable Office of Management and Budget (OMB) Circulars. Determinations of allowable costs will be made in accordance with the applicable Federal cost principles. The cooperative agreement(s) awarded under this SGA are subject to the following administrative standards and provisions, if applicable:

29 CFR Part 36—Federal Standards for Nondiscrimination on the Basis of Sex in Education Programs or Activities Receiving Federal Financial Assistance.

29 CFR Part 93—New Restrictions on Lobbying.

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Governmentwide Debarment and Suspension (Nonprocurement) and Governmentwide Requirements for Drug-Free Workplace (Grants).

29 CFR Part 99—Federal Standards for Audits of States, Local Governments, and Non-Profit Organizations.

2. Subgrants/Subcontracts. Subgrants and contracts must be awarded in accordance with 29 CFR 95.40. In compliance with Executive Orders 12876 as amended, 13230, 12928 and 13021 as amended, the Grantee is strongly encouraged to provide subgranting opportunities to Historically Black Colleges and Universities, Hispanic Serving Institutions and Tribal Colleges and Universities.

3. Key Personnel. The applicant shall list individual(s) who has (have) been designated by the Grantee(s) as having primary responsibility for the conduct and completion of all work in project(s) it proposes. The applicant will submit written proof that key personnel will be available to begin work on the project no later than three weeks after award. The Grantee agrees to inform the GOTR whenever it appears impossible for these individual(s) to continue work on the project as planned. The Grantee may nominate substitute personnel and submit the nominations to the GOTR; however, the Grantee must obtain prior approval from the Grant Officer for all key personnel. If the Grant Officer is unable to approve the personnel change, he/she reserves the right to terminate the cooperative agreement.

4. Encumbrance of Cooperative Agreement Funds. Cooperative agreement funds may not be encumbered/obligated by the Grantee(s) before or after the cooperative agreement period of performance. Encumbrances/obligations outstanding as of the end of the cooperative agreement period may be liquidated (paid out) after the end of the cooperative agreement period. Such encumbrances/obligations shall involve only specified commitments for which a need existed during the grant period and which are supported by approved contracts, purchase orders, requisitions, invoices, bills, or other evidence of liability consistent with the grantee's purchasing procedures and incurred within the cooperative agreement period. All encumbrances/obligations incurred during the cooperative agreement period shall be liquidated within 90 days after the end of the grant period, if practicable.

5. Site Visits. The Grantor, through its authorized representatives, has the right, at all reasonable times, to make site visits to review project accomplishments and management control systems and to provide such technical assistance as may be required. If the grantor makes any site visit on the premises of the Grantee or a subgrantee(s)/ contractor(s) under this grant(s), the Grantee(s) shall provide and shall require its subgrantees/contractors to provide all reasonable facilities and assistance for the safety and convenience of the Government representatives in the performance of their duties. All site visits and evaluations shall be performed in a manner that will not unduly delay the work.

V. Review and Selection of Applications for Grant Award

A. The Review Process

USDOL will screen all applications to determine whether all required elements are present and clearly identifiable. Each complete application will be objectively rated by a technical panel against the criteria described in this announcement. Applicants are advised that the panel recommendations to the Grant Officer are advisory in nature. The Grant Officer may elect to select a Grantee(s) on the basis of the initial proposal submission; or, the Grant Officer may establish a competitive or technically acceptable range for the purpose of selecting qualified applicants. If deemed appropriate, following the Grant Officer's call for the preparation and receipt of final revisions of proposals, the evaluation process described above will be repeated to consider such revisions. The Grant Officer will make final selection determination based on what is most advantageous to the Government, considering factors such as: panel findings; the geographic distribution of the competitive applications; and the availability of funds. The Grant Officer's determination for award under this SGA 01-06 is final.

Note: Selection of an organization as a cooperative agreement recipient does not constitute approval of the cooperative agreement application as submitted. Before the actual cooperative agreement is awarded, USDOL will enter into negotiations about such items as program components, funding levels, and administrative systems. If the negotiations do not result in an acceptable submission, the Grant Officer reserves the right to terminate the negotiation and decline to fund the proposal.

B. Rating Criteria and Selection

The technical panel will review grant applicants against the various criteria on the basis of 100 points with an additional 5 points available for non-federal or leveraged resources.

The factors are presented in the order of emphasis that they will receive.

1. Approach, Understanding of the Issue, and Budget Plan (45 points)

a. Overview. This section of the proposal must explain:

(1) The applicant's proposed innovative method for performing all the specific areas of work requirements presented in this solicitation for the country (or countries) in which the applicant proposes to implement activities;

(2) The expected outcomes over the period of performance for each of the tasks; and

(3) The approach for producing the expected outcomes.

The applicant must describe in detail the proposed approach to comply with each requirement in Section IV-A of this solicitation, including all tasks and methods to be utilized to implement a project (or projects). Also, the applicant must explain the rationale for using this approach. In addition, this section of the proposal must demonstrate the applicant's thorough knowledge and understanding of the issues involved in providing basic education to children removed from child labor or at risk; best-practice solutions to address their needs; and the implementing environment in the targeted Timebound countries.

b. Implementation Plan. The applicant must submit an implementation plan, preferably with a visual such as a Gantt chart, for the country (or countries) it proposes to operate a project (or projects). The implementation plan should list the outcomes, objectives and activities during the life of the project (or projects), and scheduling of time and staff starting with the execution of the cooperative agreement and ending with the final report. In describing the implementation plan, the applicant must address the following points:

(1) Describe the use of existing or potential infrastructure and use of qualified personnel, including qualified nationals, to implement the project. The applicant also must include a project organizational chart, demonstrating management structure, key personnel positions, and indicating proposed links with Government, business leaders, trade unions, educators, and other significant local actors.

(2) Develop a list of activities and explain how each relates to the overall development objective of reducing the worst forms of child labor through education.

(3) Explain how appropriate awareness raising, training and pedagogic materials will be developed.

(4) Demonstrate how the organization will strengthen national institutions and policies on education and child labor.

(5) Demonstrate how the organization would systematically report on project performance to measure the achievement of the project objective(s).

(6) Demonstrate how the organization would build national and local capacity to ensure that project efforts to reduce the worst forms of child labor through the provision of basic education are sustained after completion of the project.

c. Budget Plan. Develop a country-specific budget for the project for each of the countries for which the applicant proposes a project. This section of the proposal must explain the costs for performing all of the requirements presented in this solicitation and for producing all required reports and other deliverables presented in this solicitation; costs must include labor, equipment, travel, and other related costs.

d. Management and Staff Loading Plan. This section also must include a management and staff loading plan. The management plan is to include the following:

(1) A project organization chart and accompanying narrative which differentiates between elements of the applicant's staff and subcontractors or consultants who will be retained;

(2) A description of the functional relationship between elements of the project's organization; and

(3) The identity of the individual responsible for project management and the lines of authority between this individual and other elements of the project.

(4) A description of how the implementation plan will be integrated into and support the ILO/IPEC's Timebound Program in the target countries.

The staff loading plan must identify all key tasks and the person-days required to complete each task. Labor estimates for each task must be broken down by individuals assigned to the task, including subcontractors and consultants. All key tasks must be charted to show time required to perform them by months or weeks.

This section will be evaluated in accordance with applicable Federal laws and regulations. The budget must comply with Federal cost principles (which can be found in the applicable OMB Circulars) and with ILAB budget requirements contained in the application instructions in Section III of this solicitation.

2. Experience and Qualifications of the Organization (30 points)

The evaluation criteria in this category are as follows:

a. The organization applying for the award has experience in basic education, preferably working with disadvantaged children including working children and those removed from child labor, in the target or neighboring countries.

b. The organization has a field presence in the implementing country, or could rapidly establish an office that allows it the capability to work directly with government ministries, educators, civil society leaders including employers' organizations, and other local organizations, e.g., community-based or faith-based groups; the organization can document that it has already established relations of this nature in the target countries or can show that it has the capacity to readily establish such relations.

c. The organization has international experience in implementing basic education programs that address issues of access, quality and policy reform, and preferably in the target countries.

d. The organization has experience working with, or can show it has the ability to work with, U.N. and multilateral donor organizations.

The proposal must include information about previous grants or contracts relevant to this solicitation including:

a. The organization for which the work was done;

b. A contact person in that organization with their current phone number;

c. The dollar value of the grant, contract, or cooperative agreement for the project;

d. The time frame and professional effort involved in the project;

e. A brief summary of the work performed; and

f. A brief summary of accomplishments.

This information on previous grants and contracts shall be provided in appendices and will not count in the 40-page maximum page requirement.

3. Experience and Qualifications of Key Personnel (25 points)

This section of the proposal must include sufficient information to judge the quality and competence of staff proposed to be assigned to the project(s) to assure that they meet the required qualifications. Successful performance of the proposed work depends heavily on the qualifications of the individuals committed to the project(s). Accordingly, in its evaluation of the applicant's proposal, USDOL will place emphasis on the applicant's commitment of personnel qualified for the work involved in accomplishing the assigned tasks. Information provided on the experience and educational background of personnel must indicate the following:

a. The identity of key personnel assigned to the project. “Key personnel” are staff who are essential to the successful operation of the project and completion of the proposed work and, therefore, may not be replaced or have their hours reduced without the approval of the Grant Officer.

b. The educational background and experience of all staff to be assigned to the project.

c. The special capabilities of staff that demonstrate prior experience in organizing, managing and performing similar efforts.

d. The current employment status of staff and availability for this project. The applicant must also indicate whether the proposed work will be performed by persons currently employed or is dependent upon planned recruitment or subcontracting. Key personnel must sign letters of agreement to serve on the project, and indicate availability to commence work within three weeks of grant award.

The following information must be furnished:

a. The applicant must designate a Program Director (Key Personnel) to oversee the project(s) and be responsible for implementation of the requirements of the cooperative agreement. The Program Director must have a minimum of three years of professional experience in a leadership role in implementation of complex basic education programs in developing countries in areas such as education policy; improving educational quality and access; teacher training and materials development; educational assessment of disadvantaged students; development of community participation in the improvement of basic education; and monitoring and evaluation of basic education projects. Points will be given for candidates with additional years of experience. Preferred candidates will also have knowledge of child labor issues, and experience in the development of transitional, formal, and vocational education of children removed from child labor.

b. The applicant must designate a Child Labor/Education Specialist (Key Personnel) who will provide leadership in developing the technical aspects of this project in collaboration with the Project Director. This person shall have at least three years experience in basic education projects in developing countries in areas including student assessment, teacher training, educational materials development, educational management, and educational monitoring and information systems. This person shall have experience in working successfully with Ministries of Education, networks of educators, employers' organizations and trade union representatives or comparable entities. Additional experience with child labor and education policy and monitoring and evaluation is an asset.

c. The applicant must specify other personnel proposed to carry out the requirements of this solicitation.

d. The applicant must include a description of the roles and responsibilities of all personnel proposed for this project (or projects) and a resume for each professional person to be assigned to the program. Resumes will be attached in an appendix. At a minimum, each resume must include: the individual's current employment status and previous work experience, including position title, duties performed, dates in position, and employing organizations and educational background. Duties must be clearly defined in terms of role performed, i.e., manager, team leader, consultant, etc. Indicate whether the individual is currently employed by the applicant, and (if so) for how long.

e. The applicant must indicate whether proposed personnel are currently employed by the organization or are dependent upon planned recruitment or subcontracting. Note that management and professional technical staff members comprising the applicant's proposed team should be individuals who have prior experience with organizations working in similar efforts, and are fully qualified to perform work specified in the Statement of Work. Where subcontractors or outside assistance are proposed, organizational control must be clearly delineated to ensure responsiveness to the needs of USDOL.

4. Leverage of Federal Funding (5 points)

The Department will give up to five (5) additional rating points to proposals reflecting the criteria above when the proposal includes non-Federal resources that expand the dollar amount, size and scope of the proposal. The applicant may include any leveraging or co-funding anticipated. To be eligible for the additional points in the criterion, the applicant must list the source(s) of funds, the nature, and possible activities anticipated with these funds under this cooperative agreement and any partnerships, linkages or coordination of activities, cooperative funding, etc.

Signed at Washington, DC, this 20th day of November, 2001.
Lawrence J. Kuss,
Grant Officer.

Appendix A: SF 424—Application Form.

Appendix B: SF 424A—Budget Information Form.

Appendix C: Background Information on Timebound Program in El Salvador.

Appendix D: Background Information on Timebound Program in Nepal.

Appendix E: Background Information on Timebound Program in Tanzania.

Appendix F: Background Material available in hard copy (upon request).

BILLING CODE 4510-28-P

BILLING CODE 4510-28-C

Appendix C: Background Information on the Timebound Program in El Salvador

The Timebound Program in El Salvador will contribute to the government's intent to eliminate the worst forms of child labor. The Multipurpose Household Survey (EHPM) of the General Department of Statistics and Census (DIGESTYC) in El Salvador estimated that in 1999 there were 159,717 children between 10-17 working in the country. This figure represents 14.6% of the 1.1 million children in that age group. It is estimated that almost a quarter of these children are not enrolled in school, and an additional 6.4% are enrolled in school, but not attending.

El Salvador experiences the common and prevalent problem of children working with their families in fields, particularly during the coffee and sugar harvests. Children work harvesting commercial crops such as coffee and sugarcane, and are found working in charcoal production, shellfish harvesting, and fireworks production. Orphans and children from poor families frequently work as street vendors and general laborers in small, informal sector businesses. It is estimated that as many as 115,000 girls between the ages of 7 and 18 work as domestic servants. There is also growing concern over the extent of child sexual exploitation in port cities and in San Salvador. Moreover, there have been reports of trafficking in young girls both into and from the country for the purpose of sexual exploitation.

The Salvadoran Constitution prohibits the employment of children under the age of 14. Minors between the ages of 14 and 18 may receive special permission from the Labor Ministry to work, but only when such employment is absolutely necessary to the minor's and his/her family's survival. Minors between 14 and 18 years of age are limited to work for six-hour shifts and a maximum 36-hour workweek. The Ministry of Labor is responsible for enforcing child labor laws. However, scarce resources and difficulty in monitoring the large informal sector has limited the Ministry's effectiveness.

El Salvador ratified the United Nations Convention on the Rights of the Child in 1990 and ILO Convention No. 138 on the Minimum Age for Employment in 1996. The country ratified ILO Convention 182 on the Worst Forms of Child Labor in October 2000.

The Salvadoran Constitution prohibits older children without a basic education from working. Yet much remains to be done in the field of education to use it as a tool to eliminate the worst forms of child labor, despite strong commitment on the part of the Ministry of Education (MINED) to support the Timebound initiative.

Improved primary education has been one of the most visible successes in El Salvador since the peace agreements in 1992. Reforms have aimed to improve the quantity, quality, efficiency and equity of education with the backing of donors including the World Bank, the Inter-American Development Bank, and USAID. Before the damage caused by the earthquakes, El Salvador had increased public expenditure on education; increased the number of schools, classrooms and teachers; reduced the average distance to primary schools; expanded early childhood centers; increased teachers' salaries and provided a salary incentive to rural teachers; created a training program for teachers; and provided incentives to reward schools and principals that achieve certain indicators. The government has also established a number of innovative programs—e.g., EDUCO (Educación con Participación de la Comunidad), the Accelerated School Program (Programa de Educación Acelerada), the Multi-Grade School Program (Programa de Educación Alternativa); Distance Learning Program (Programa de Educación a Distancia), the Open-School Program (Escuelas Abiertas), Centers for Educational Resources (Centros de Tecnologías Educativas); Quality Management Model (Modelo de Gestión para la Calidad), and scholarship programs—all of which could potentially benefit working children or those removed from the worst forms of child labor.

Yet despite these achievements in El Salvador, data from the United Nations Development Program indicate that the average number of years that children attend school on the national level is 5.3, and only 3.2 in rural areas. Recent research cited by ILO/IPEC has explored why rural families do not enroll their children in school or allow them to drop out and join the labor force. Particularly in rural areas, the school system is not able to meet the needs of working children and their families because the quality is low, the opportunity costs of schooling are high, and because education seems irrelevant in terms of their future employment.

The Government of El Salvador signed a Memorandum of Understanding (MOU) with ILO/IPEC in 1996, and is collaborating on a number of ILO/IPEC projects aimed at combating child labor. Current USDOL-funded projects are designed to discourage children from working in shellfish and coffee harvesting, and the cottage production of fireworks. El Salvador is also part of a USDOL-funded regional effort aimed at gathering statistical information on children engaged in economic activities. The Timebound project in El Salvador builds upon these efforts.

The Government of El Salvador has established a National Steering Committee, which is responsible for coordinating all child labor initiatives in El Salvador. It will provide overall guidance on priorities and implementation of the Timebound program in the country. The Committee is coordinated by the Ministry of Labor and includes the Ministers of Education and Health, and representatives from worker and employer organizations.

The Timebound Project in El Salvador has identified as a priority focus the following four worst forms of child labor: (1) Child victims of commercial sexual exploitation; (2) children scavenging at dumpsites; (3) hazardous child labor in sugar cane production and harvesting, and (4) hazardous child labor in fishing.

The National Steering Committee has prioritized selected geographical regions where model interventions will be developed that can be extended or scaled up to address children in these and other worst forms of child labor at the national level.

The ILO/IPEC has set a goal of reducing the worst forms of child labor in the targeted sectors by 50 percent by the end of the project. Implementation by sector will take place in the six Departments (18 municipalities). The Timebound Project in El Salvador will benefit around 9,300 working children, and 15,700 younger siblings of working children. The number of beneficiaries may be modified once project baseline surveys are conducted. The target sectors are as follows:

Garbage Dumps

Department of Santa Ana (Municipalities of Santa Ana, Chalchuapa).

Estimated beneficiaries: 1,000 children, 2,000 children at risk and 500 families.

Specific educational needs identified: Little or no schooling of children, high opportunity cost of sending children to school.

Sugar Cane

Department of San Vicente (Municipalities of San Vicente, Tecoluca), Department of San Salvador (Municipalities of San Salvador, Apopa, Nejapa, Aguilares, El Paisnal); Department of Sonsonate (Municipalities of Izalco, Nahuizalco, Nahulingo).

Estimated beneficiaries: 5,000 children, 7,500 children at risk, and 1,000 families.

Specific educational needs identified: Development of relevant curriculum for the school as part of the MINED pilot program, including agricultural extension, agricultural mechanics, agribusiness and other relevant courses.

Commercial Sexual Exploitation

Department of San Miguel (Municipality of San Miguel); Department of San Salvador (Municipality of San Salvador).

Estimated beneficiaries: 200 children, 200 children at risk, and 50 families.

Specific educational needs identified: Development of flexible, informal education and vocational programs, including support of MINED accelerated classroom and distance learning programs.

Fishing

Department of Usulután (Municipalities of Usulután, Jiquilisco, Puerto El Triunfo, San Dionisio, Jucurán).

Estimated beneficiaries: 3,100 children, 4,650 children at risk, and 3,000 families.

Specific educational needs identified: Improve relevancy of curriculum for schools as part of the MINED pilot program that includes environmental education, sensitization to sustainable fishing, vocational education, and other relevant courses.

Appendix D: Background Information on the Timebound Program in Nepal

The Timebound Program in Nepal supports His Majesty's Government of Nepal Master Plan for the Elimination of Child Labor, which aims to eliminate the worst forms of child labor by 2005, and all forms of child labor by 2010. Based on a 1996 ILO-sponsored national child labor survey, it is estimated that there are 2.6 million working children between the ages of 5 to 14 in Nepal. This accounts for more than 40 percent of the country's 6.2 million children. The survey further revealed that more than 80 percent of child workers do not receive wages. In Nepal, approximately 60 percent of children who work also attend school; the percentage is noticeably lower for working girls as compared to working boys.

Child labor is found in a variety of sectors, with the overwhelming majority of working children participating in family-based subsistence agriculture. Children are also found working in brick-kiln operations, tea shops, construction sites, and as porters, rag pickers and domestic servants. Nepali children are also the victims of domestic and cross border trafficking for purposes of exploitative labor or commercial sexual exploitation.

Child labor in Nepal is a complex phenomenon deeply embedded in historic, cultural, social and economic patterns. On the supply side, the main determining factors are household poverty and the poor performance of the education systems in preventing child labor. There is a weak demand for education among families prone to child labor due to the inadequacy of the education system, poor infrastructure, inadequate number of qualified teachers and their absenteeism, lack of learning materials, and a poor learning environment. Related factors are the inadequacy of basic health services and absence of social protection schemes that push children into labor when there is a family crisis such as illness, social exclusion, gender discrimination, and neglect or abuse at home.

Nepal has ratified several significant conventions, including United Nations Convention on the Rights of the Child in 1990 and ILO Convention No. 138 on Minimum Age for Employment in 1997. The country is in the process of ratifying ILO Convention No. 182 on the Worst Forms of Child Labor. The Constitution of Nepal (Article 20) prohibits the employment of any minor in a factory, mine or in other hazardous work. The 1992 Labor Act and the 1992 Children Act prohibit the employment of children under 14 years from working in any kind of employment. A new Child Labor Act (1999) makes amendments to the 1992 Labor Act and lists specific hazardous work that children below 16 are prohibited from doing. However, unclear or contradictory definitions in legislation and weak enforcement of child labor laws remain serious impediments to protecting the welfare of children.

A comprehensive review of child labor-related programs in Nepal by the ILO indicated that 29 programs totaling $62.6 million dollars directly or indirectly related to the issue of child labor. Furthermore, an estimated 240 NGOs that have a stated objective of assisting children are registered throughout the country. Nepal receives significant funds from a variety of development agencies including the World Bank, Asian Development Bank, the multi-donor Basic and Primary Education Program (BPEP), UNICEF, UNDP, UNESCO, World Food Program, USAID, German Technical Cooperation (GTZ), Swiss Association for Development Cooperation (SDC) and Danish International Development Agency (DANIDA).

USDOL provides funding to support two ILO/IPEC projects in Nepal. These include a project to combat bonded child labor, which targets 14,000 Kamaiya (bonded labor) families, including 16,000 Kamaiya children. Nepal is also included in a South Asia sub-regional project to combat trafficking of children for exploitative employment.

National Stakeholder Consultations for the Timebound Program in Nepal were held on May 8-10, 2001. The consultations were well attended and included representatives from government, trade unions, business, NGOs, international organizations, and the international donor community. Based on these meetings and rapid assessment surveys conducted earlier this year, 6 priority target groups have been identified for the Timebound Program. They include: child rag pickers; child porters; child domestic workers; children in mining; child labor in the carpet sector; and child trafficking for labor or sexual exploitation. It is estimated that there are about 122,000 children working in these 6 priority sectors. (Bonded labor was also identified in the 2001 Stakeholder Consultations, however a USDOL funded ILO/IPEC project already underway targets children in this specific sector.)

The 2001 Stakeholder Consultations also identified several areas of education policy and program intervention:

• Increasing enrollment of new groups and reducing dropout rates by focusing on educational access, relevance and affordability;

• Developing appropriate skills through education in order to offer enhanced future employability;

• Focusing improvements in education in the districts with high concentration of the worst forms of child labor;

• Using non-formal education for rehabilitation and transition to formal school or vocational training; and

• Promoting community-based monitoring of education.

The Timebound Project in Nepal will target 17,000 working children in the six selected worst forms of child labor in 22 Districts. The number of beneficiaries may be modified once project baseline surveys are conducted.

Child Porters

Estimated beneficiaries: 4,500 children

Specific educational needs identified: Improving the quality of education in areas of origin to be monitored by community-based systems.

Child Domestic Workers

Estimated beneficiaries: 7,500 children

Specific educational needs identified: Seventy percent of child domestic workers are school dropouts. Isolation and long working hours (often 15 hours per day) that leave little time for schooling. Only ⅓ of child domestic workers attend school, and of these, most are boys.

Child Ragpickers

Estimated beneficiaries: 1,000 children

Specific educational needs identified: Most children are from rural areas where schools are available. About one-half boys and one-quarter of girls are literate. Early school drop out is a problem since the average age of ragpickers is 11.7 years. Many children in this group live in the streets so there is a need for drop-in centers for counseling, rehabilitation and skills training for older children.

Children in Mines

Estimated beneficiaries: 500 children

Specific educational needs identified: Both boys and girls are employed in this sector, and most of the girls are illiterate.

Children in the Carpet Sector

Estimated beneficiaries: 1,500 children

Specific educational needs identified: Children work 12-20 hours per day. About 60% of children in this sector are illiterate.

Child Victims of Trafficking

Estimated beneficiaries: 2,000 children

Specific educational needs identified: Need for trauma counseling before reintegration into school or occupational training.

Appendix E: Background Information on the Timebound Program in Tanzania

The Timebound Program in Tanzania will contribute to the government's Child Labor Elimination Program (CLEP). The Department of Labor in the Ministry of Labor, Youth Development and Sports is the chief national agency involved in enforcing anti-child labor laws. Tanzania ratified ILO Convention No. 138 on Minimum Age for Employment in 1998, and ILO Convention 182 on September 12, 2001. Tanzania's Employment Ordinance of 1956 prohibits children under 15 years of age from working in the industrial sector, in the vicinity of machinery, or in any subsurface work that is entered by means of a mine-shaft. Yet recent investigation indicates that in the last two decades in Tanzania there has been a significant increase in child labor and deterioration in school enrollment figures. The gross enrollment rate of school-aged children was 98% in 1977 and 77% by 1999.

According to preliminary data from the first round of Tanzania's 2000-2001 Child Labor Survey (CLS), nearly 4.1 million (39%) of an estimated 10.2 million children between the ages of 5 and 14 are not in school, and nearly 4 million of these children engage in economic activities or housekeeping. Only 40% of children aged 5-9 years were attending school. For the age groups 10-14 and 15-17, the corresponding attendance rates are 78% and 59% respectively. Overall, only 58% of an estimated 12.4 million children aged 5-17 are in school, while 39% engaged in economic activity or in housekeeping without attending school. Fifty three percent of the 7.3 million school children aged 5-17 report being involved in economic activities, and 48% of working children are enrolled in school.

Poverty is a major contributor to both the rise of child labor and the decline in school participation among children, particularly for children from female-headed households who tend to be more vulnerable to child labor. Furthermore, in Tanzania approximately 3 million children are living in child-headed homes as a result of the death of parents due to HIV/AIDS. Tanzania's Poverty Reduction Strategic Plan (PRSP) includes education as a key intervention with targets that include universal primary education by 2010; gender equality in primary and secondary school by 2005; and increases in primary completion, gross enrollment rates, transition rates from primary to secondary, net primary school enrollment and a reduction of primary dropout rates.

There are a number of education system barriers for poor and at-risk children including child laborers. These include inadequate mechanisms to ensure school attendance; inadequate alternative schooling for child laborers and inflexible school schedules; low relevance of the curriculum to the current labor market and self-employment trends; inadequate learning assessment tools; lack of teachers, poor teacher motivation and teaching methods; high teacher absenteeism exacerbated by death rates from HIV/AIDS; inappropriate treatment of children by teachers which includes violence and sexual abuse; overcrowded classrooms (average 113 children); inadequate education infrastructure; centralized control over resources so that materials do not reach schools; shortage of teaching and learning materials, libraries and laboratories; and lack of skills and ability to mobilize community resources.

In Tanzania, more girls are withdrawn from school than boys (60/40 ratio). Efforts to increase girls' education must go hand in hand with efforts to reduce child labor particularly because some prevalent forms of child labor such as prostitution and child domestic work largely affect girls.

For school dropouts, systems that mainstream them back into formal education are lacking. There are only two small programs for reaching the out-of-school population: the Complimentary Basic Education and Training Program (COBET) and Appropriate Cost-effective Centres for Education within the School System (ACCESS). At present these programs only reach 3,000-4,000 children per year, but the government has plans to extend education to 650,000 out-of-school children by 2004.

Access to secondary and vocational training has been more limited. There are few of these schools in many parts of the country, and costs are high for many households. Only 6% of children attend secondary school. Furthermore, there is an urban bias in education, and insufficient linkages between the content of education and the needs of local labor market and local economy. It is estimated that 500,000 youngsters come into the job market each year, yet only 30,000 jobs are created in the formal sector. The informal sector is the most rapidly expanding, generating 80% of the country's jobs.

The challenges faced by Tanzanian local economies and communities in areas of education and labor, including child labor, will in the future be addressed within the context of the Local Government Reform Process (LGRP), which fosters decentralization and devolves decision making, resources, and accountability to the district level. As part of the LGRP processes, district level micro-planning and tools and approaches will need to be developed, as will be the basis by which block grants will be awarded by the national government for provision of a certain quality of basic services including education.

Tanzania has been active in ILO/IPEC since 1994. ILO/IPEC efforts, which have been financed by a number of donors including USDOL, include a range of interventions such as rehabilitation and reintegration of working children into primary education or vocational training; awareness raising about the problem of child labor and mobilization of local communities; support for labor inspector training with respect to the hazards of child labor; and collaboration with employers and workers to address child labor on commercial plantations.

In preparation for the Timebound Programs, rapid assessments were conducted in five sectors: children in prostitution, domestic work, the informal sector (including scavenging, garage work, and quarrying), mining, and commercial agriculture. The rapid assessment studies suggest a significant incidence of the worst forms of child labor in Tanzania. Children working in the worst forms of child labor in Tanzania are exposed to a range of hazards, including long hours, physical and sexual abuse, heavy loads, exposure to dust and toxic chemicals, and the handling of potentially dangerous tools often without adequate training or protective gear.

National Stakeholder Consultations for the Timebound Program in Tanzania were held April 23-25, 2001. Representatives from government, trade unions, business, NGOs, international organizations, and the international donor community attended the meetings. The Tanzanian government has committed itself to reducing the incidence of child labor in four targeted sectors (child prostitution, child domestic work, children in mining and children employed in commercial agriculture) by 75% by 2005, and to eradicate it by 2010. The major thrust of the Timebound Program will be to create capacity and enabling environment to contribute to the Government of Tanzania's objective. Under the project funded by USDOL with ILO/IPEC, 30,000 children under the age of 18 in 11 districts will be prevented or withdrawn from child labor in the four target sectors.

The 30,000 children withdrawn in the 11 target districts will be enrolled in transitional schools in preparation for formal schooling or vocational training. The ILO/IPEC will be responsible for the transitional education for children above age 10 and vocational education for older children above age 14. Transitional education for children under 14 will last from 6-18 months. Children under age 10 will be directly mainstreamed into formal schools and this activity will be carried out by the Education Initiative. It will be important to form linkages between the formal school system, and transitional education and vocational education.

The 11 target districts are as follows: Arusha Region: Arusha, Arumeru, Simanjiro; Singida Region: Iramaba; Dodoma Region: Kondoa; Iringa Region: Iringa rural, Mufindi; Tabora Region: Urambo; Dar es Salaam Region: All 3 districts.

The number of beneficiaries may be modified, once project baseline surveys are conducted. The targeted sectors are as follows:

Prostitution

Target districts: Dar es Salaam (all districts); Iringa rural; Kondoa; Iramba; Arusha.

Estimated beneficiaries: 5,000 children.

Specific educational needs identified: Rehabilitation and counseling may be needed to combat triggers of prostitution including family breakdown and abuse, peer influence, lure of the city and dreams of the better life. Need for education on risk of HIV/AIDS and other sexually transmitted diseases.

Domestic Work

Target districts: Arusha: Kondoa; Iringa rural; Dar es Salaam (all districts).

Estimated beneficiaries: 10,000 children. Girls aged 9-15 migrating from rural to urban areas are employed mostly by working and middle class families as “house girls.” Many children are isolated, work 14-18 hours per day.

Specific educational needs identified: Reaching both children and employers, HIV/AIDS education to counter sexual abuse by employers or their relatives. Need for education on risk of HIV/AIDS and other sexually transmitted diseases.

Mining

Target districts: Simanjiro.

Estimated beneficiaries: 2,500 children.

Specific educational needs identified: Up to an estimated 70% of children attend primary school and often work to earn money to cover school fees and expenses, yet school attendance is irregular and performance is weak. A majority of those working full-time originated from female-headed households or were orphans. The majority in sector are male, but young girls can be found working as barmaids and cooks in restaurants, and bars catering to the mines. Interaction with adults leads to sexual abuse and potential of being infected with HIV/AIDS and STDs. Need for education on risk of HIV/AIDS and other sexually transmitted diseases.

Commercial Agriculture

Target districts: Arusha; Arumeru; Simanjiro; Iringa rural; Mufindi; Urambo.

Estimated beneficiaries: 17,500 children aged 5-17 working in commercial agriculture (tea, tobacco, and coffee).

Specific educational needs identified: Commercial farms are far from community residential areas and children living and working in such facilities have little if any hope of schooling as there are often no schools within the vicinity of any of the plantations.

Appendix F: Background Material Available in Hard Copy (Upon Request)

1. Timebound Program Manual.

2. Timebound Program Information Kit.

3. Project Document for Timebound Program El Salvador.

4. Project Document for Timebound Program Nepal.

5. Project Document for Timebound Program Tanzania.

6. Timebound Program Stakeholders Consultations—Tanzania.

7. Timebound Program Stakeholders Consultations—Nepal.

8. Rapid Assessments—Nepal.

9. Rapid Assessments—Tanzania.

10. Rapid Assessments—El Salvador.

[FR Doc. 01-29423 Filed 11-27-01; 8:45 am]

BILLING CODE 4510-28-P